DEPARTMENT OF TRANSPORTATION

Federal Aviation Administration

14 CFR Part 39

[Docket No. FAA-2012-0636; Directorate Identifier 2012-NM-037-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for certain Airbus Model A300 B4-601, B4-603, and B4-605R airplanes; Model A300 F4-605R airplanes; Model A300 C4-605R Variant F airplanes; and Model A310-204 and -304 airplanes; powered by General Electric (GE) CF6-80C2 series engines. The NPRM proposed to require installing a shunt of the rotary selector (introducing an auto-relight function). The NPRM was prompted by reports of two single-engine flameout events during inclement weather. This action revises the NPRM by adding an additional wiring modification to a certain circuit breaker panel. We are proposing this AD to prevent a long engine restart sequence after a non-selection of continuous relight by the crew and a flameout event of both engines, which could result in reduced controllability of the airplane, especially at low altitude. Since these actions impose an additional burden over that proposed in the NPRM, we are reopening the comment period to allow the public the chance to comment on these proposed changes.

DATES: We must receive comments on this proposed AD by April 21, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2012-0636; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-0636; Directorate Identifier 2012-NM-037-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on June 18, 2012 (77 FR 36211). The NPRM proposed to require actions intended to address the unsafe condition for the products listed above.

Since the NPRM (77 FR 36211, June 18, 2012) was issued, we have determined it is necessary to require an additional wiring modification of the circuit breaker panel, 105VU, to make it possible to complete the modification of the shunt of the rotary selector (introducing an auto-relight function).

Relevant Service Information

Airbus has issued Mandatory Service Bulletin A300-74-6003, Revision 05, dated May 23, 2013; and Mandatory Service Bulletin A310-74-2003, Revision 05, dated May 23, 2013. The actions described in this service information are intended to correct the unsafe condition identified in the Mandatory Continuing Airworthiness Information (MCAI) European Aviation Safety Agency Airworthiness Directive 2011-0113, dated June 17, 2011.

Comments

We have considered the following comments received on the NPRM (77 FR 36211, June 18, 2012). The Air Line Pilots Association, International, supported the NPRM and its compliance time.

Request To Withdraw the NPRM (77 FR 36211, June 18, 2012) Based on Safety Record

Based on its safety record, FedEx requested withdrawal of the NPRM (77 FR 36211, June 18, 2012). FedEx stated that the impact of the NPRM solely falls on its company; therefore, its exemplary safety record, superior pilot training, and performance standards should be significant factors in the FAA's decision regarding the need for the proposed AD.

FedEx stated that a review of operational events on past and present airplanes operated by FedEx revealed that there are no known occurrences of the inclement weather flameouts that are the primary driver of the NPRM (77 FR 36211, June 18, 2012). In addition, FedEx stated that it has fully implemented the full authority digital engine control (FADEC) software upgrades required by AD 2007-21-06, Amendment 39-15224 (72 FR 57848, October 11, 2007), on certain engines in its fleet. FedEx stated that the latest GE guidance indicates that the worldwide rate of engine flameouts has decreased significantly in the last several years and that the rate associated with full authority digital engine control (FADEC) engine models in particular has shown a significant decline and is now well below that of the power management control fleet.

We disagree with FedEx's request. We have received reports of two single-engine flameout events during inclement weather. We consider this to be an unsafe condition that could result in reduced controllability of the airplane, especially at low altitude. Also, not all affected airplanes have FADEC-controlled engines installed.

We consider a design solution that does not require pilot action to be a more robust mitigating action to address an unsafe condition. We have determined that it is necessary to proceed with issuing this SNPRM to adequately address the identified unsafe condition. Affected operators may request approval of an alternative method of compliance (AMOC) under the provisions of paragraph (i)(1) of this SNPRM by submitting data substantiating that the change would provide an acceptable level of safety.

Request To Withdraw the NPRM (77 FR 36211, June 18, 2012) Based on Operational Impact

FedEx also requested withdrawal of the NPRM (77 FR 36211, June 18, 2012) based on operational impact. FedEx stated that the modifications required by the proposed AD would affect the interface between the flight crew and the airplane, and would alter the pilot's degree of control in the event of an engine event. FedEx stated that the modification is intended to ensure rapid relight of the engine following a flameout in the event that the crew does not correctly follow procedures and manually select the continuous relight function when entering an inclement weather environment. FedEx stated that it is consistently following proper procedures and has trained crews accordingly.

In addition, FedEx stated that there does not appear to be any concurrent requirement for the CF6-80C2-powered Model MD-11 airplane in the FedEx fleet. The current MD-11 flight manual provides for an optional ice detection system that automatically switches continuous relight on in the case of icing conditions. FedEx stated that this system is not required and not desired by the FedEx pilots.

FedEx stated that in the view of the air operation division (AOD) flight technical operations and fleet technical pilots, a controlled (as opposed to automated) relight of an engine after flameout has a greater chance of success. FedEx stated that under the current configuration, the flightcrews have the capability—with guidance on recommended in-flight restart airspeeds and altitudes from the quick reference handbook (QRH)—to ensure that accessory loads have been reduced and the fuel flow has been managed through throttle movements prior to a relight attempt. FedEx stated that an automated system could potentially force a relight attempt under non-nominal conditions, which could actually delay a successful engine restart. FedEx noted an example would be a restart attempt when windmilling N2 is below the recommended restart value in the GE operating instructions.

FedEx stated, therefore, its position is that the steps that have already been taken, and the controls that are currently in place to ameliorate the extremely small risk of an engine flameout, which could result in a loss-of-control event, are adequate to ensure safety under all flight regimes. FedEx stated that, furthermore, the proposed modification does not increase the level of safety in real-world terms to sufficiently justify the relatively high financial and operational impact to its company.

We disagree with FedEx's request to withdraw this SNPRM. As stated previously, because we have received reports of two single-engine flameout events during inclement weather, this condition is unsafe and could result in reduced controllability of the airplane, especially at low altitude.

In regard to the Model MD-11 airplanes, those airplanes are not included in the applicability of this SNPRM; each engine installation is evaluated separately from other airplane models due to their installation differences. The actions specified in this SNPRM are not the same as the actions tied to the ice protection system described in FedEx's comment. Also, not all affected airplanes have FADEC-controlled engines installed. In addition, as noted previously, we consider a design solution that does not require pilot action to be a more robust mitigating action to address an unsafe condition.

Affected operators may request approval of an AMOC under the provisions of paragraph (i)(1) of this SNPRM by submitting data substantiating that the change would provide an acceptable level of safety. We have not changed this SNPRM in this regard.

Request To Withdraw the NPRM (77 FR 36211, June 18, 2012) Based on Financial Impact

FedEx requested that the NPRM (77 FR 36211, June 18, 2012) be withdrawn based on the financial impact it will have on its company. FedEx stated that it agrees with the FAA's estimates that the financial impact would be nearly $1 million to its company in material and labor, and it has concerns that the cost may in fact continue to increase. FedEx stated that to date, Airbus has revised the service information three times, and each of these revisions has increased the material costs of the modification. FedEx stated that the manpower requirements and lead time for the required parts have also increased significantly over the initial release of the service information. FedEx stated that it has elected to begin performing the modifications immediately upon release of the initial service information; therefore, it would have to return multiple times to perform additional work in order to meet the requirements of the subsequent revisions. FedEx stated that it does not have a high degree of confidence that the scope of this modification will not continue to increase and result in further cost and operational disruption.

We partially agree with the commenter. We disagree to withdraw this SNPRM based on the financial impact as we have received reports of two single-engine flameout events during inclement weather, as stated previously. This condition is unsafe and could result in reduced controllability of the airplane, especially at low altitude.

We agree, however, with FedEx that the estimated costs of compliance have increased with each service information revision. We have revised the Costs of Compliance paragraph of this SNPRM to reflect the updated costs in the latest service information.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM (77 FR 36211, June 18, 2012). As a result, we have determined that it is necessary to reopen the comment period to provide additional opportunity for the public to comment on this proposed AD.

Costs of Compliance

We estimate that this proposed AD affects 47 airplanes of U.S. registry.

We estimate the following costs to comply with this proposed AD:

Estimated Costs
Action | Labor cost | Parts cost | Cost per product | Cost on U.S. operators
Modification | Up to 98 work-hours × $85 per hour = $8,330 | Up to $18,417 | $26,747 | $1,257,109

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new AD:

Airbus: Docket No. FAA-2012-0636; Directorate Identifier 2012-NM-037-AD.

(a) Comments Due Date

We must receive comments by April 21, 2014.

(b) Affected ADs

None.

(c) Applicability

This AD applies to Airbus Model A300 B4-601, B4-603, and B4-605R airplanes; Model A300 F4-605R airplanes, Model A300 C4-605R Variant F airplanes, and Model A310-204 and -304 airplanes; certificated in any category; all serial numbers; powered by General Electric (GE) CF6-80C2 series engines.

(d) Subject

Air Transport Association (ATA) of America Code 74, Ignition.

(e) Reason

This AD was prompted by reports of two single-engine flameout events during inclement weather. We are issuing this AD to prevent a long engine restart sequence after a non-selection of continuous relight by the crew and a flameout event of both engines, which could result in reduced controllability of the airplane, especially at low altitude.

(f) Compliance

Comply with this AD within the compliance times specified, unless already done.

(g) Modification

Within 6,000 flight hours or 30 months after the effective date of this AD, whichever occurs later: Modify the airplane by installing a shunt of the rotary selector (introducing an auto-relight function), in accordance with the Accomplishment Instructions of Airbus Mandatory Service Bulletin A300-74-6003, Revision 05, dated May 23, 2013 (for Model A300 B4-601, B4-603, and B4-605R airplanes, Model A300 F4-605R airplanes, and Model A300 C4-605R Variant F airplanes); or Airbus Mandatory Service Bulletin A310-74-2003, Revision 05, dated May 23, 2013 (for Model A310-204 and -304 airplanes).

(h) Credit for Previous Actions

This paragraph provides credit for the actions required by paragraph (g) of this AD, if those actions were performed before the effective date of this AD using the applicable service information specified in paragraphs (h)(1) and (h)(2) of this AD, and provided that the additional work in Airbus Mandatory Service Bulletin A300-74-6003, Revision 05, dated May 23, 2013; or Airbus Mandatory Service Bulletin A310-74-2003, Revision 05, including Appendix 1, dated May 23, 2013; is done, as required by paragraph (g) of this AD.

(1) For Model A300 B4-601, B4-603, and B4-605R airplanes, Model A300 F4-605R airplanes, and Model A300 C4-605R Variant F airplanes: Airbus Mandatory Service Bulletin A300-74-6003, Revision 04, dated January 9, 2013, which is not incorporated by reference.

(2) For Model A310-204 and -304 airplanes: Airbus Mandatory Service Bulletin A310-74-2003, Revision 04, dated January 9, 2013, which is not incorporated by reference.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they are approved by the State of Design Authority (or their delegated agent, or the Design Approval Holder with a State of Design Authority's design organization approval, as applicable). For a repair method to be approved, the repair approval must specifically refer to this AD. You are required to assure the product is airworthy before it is returned to service.

(j) Related Information

(1) Refer to Mandatory Continuing Airworthiness Information (MCAI) European Aviation Safety Agency Airworthiness Directive 2011-0113, dated June 17, 2011, for related information. This MCAI may be found in the AD docket on the Internet at http://www.regulations.gov by searching for and locating Docket No. FAA-2012-0636.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on February 19, 2014.
Jeffrey E. Duven,
Manager, Transport Airplane Directorate, Aircraft Certification Service.

[FR Doc. 2014-04853 Filed 3-4-14; 8:45 am]

BILLING CODE 4910-13-P